DEPARTMENT OF HEALTH AND HUMAN SERVICES

National Institutes of Health

National Institute on Drug Abuse; Amended Notice of Meeting

Notice is hereby given of a change in the meeting of the National Institute on Drug Abuse Special Emphasis Panel, November 30, 2021, 09:00 a.m. to December 01, 2021, 06:00 p.m., National Institutes of Health, National Institute on Drug Abuse, 301 North Stonestreet Avenue, Bethesda, MD 20892 which was published in the Federal Register on September 29, 2021, FR Doc 2021-21130, 86 FR 53969.

This notice is being amended to only change the Contact Person from Yvonne Ferguson, Ph.D. to Preethy Nayar, Ph.D., Scientific Review Officer, Scientific Review Branch, Division of Extramural Research, National Institute on Drug Abuse, NIH, 301 North Stonestreet Avenue, MSC 6021, Bethesda, MD 20892, (301) 443-4577, nayarp2@csr.nih.gov. The meeting is closed to the public.

Dated: October 29, 2021.
Tyeshia M. Roberson-Curtis,
Program Analyst, Office of Federal Advisory Committee Policy.

[FR Doc. 2021-23991 Filed 11-2-21; 8:45 am]

BILLING CODE 4140-01-P